DEPARTMENT OF ENERGY

Federal Energy Regulatory Commission

Combined Notice of Filings #1

Take notice that the Commission received the following electric corporate filings:

Docket Numbers: EC21-71-000.

Applicants: Tri-State Generation and Transmission Association, Inc.

Description: Application for Authorization Under Section 203 of the Federal Power Act of Tri-State Generation and Transmission Association, Inc. et al.

Filed Date: 4/5/21.

Accession Number: 20210405-5792.

Comments Due: 5 p.m. ET 4/26/21.

Docket Numbers: EC21-72-000.

Applicants: Atlantic Energy LLC, Atlantic Energy MA LLC, Atlantic Energy MD, LLC.

Description: Application for Authorization Under Section 203 of the Federal Power Act of Atlantic Energy LLC, et al.

Filed Date: 4/5/21.

Accession Number: 20210405-5801.

Comments Due: 5 p.m. ET 4/26/21.

Docket Numbers: EC21-73-000.

Applicants: Mobile Energy, LLC, AMF Tide LLC.

Description: Joint Application for Authorization Under Section 203 of the Federal Power Act of Mobile Energy, LLC, et al.

Filed Date: 4/5/21.

Accession Number: 20210405-5804.

Comments Due: 5 p.m. ET 4/26/21.

Take notice that the Commission received the following electric rate filings:

Docket Numbers: ER11-3917-002; ER10-2774-005.

Applicants: Mojave Solar LLC, Arizona Solar One LLC.

Description: Triennial Market Power Analysis for Southwest Region of Mojave Solar LLC, et al.

Filed Date: 4/5/21.

Accession Number: 20210405-5799.

Comments Due: 5 p.m. ET 6/4/21.

Docket Numbers: ER20-1487-002.

Applicants: Frontier Windpower II, LLC.

Description: Notice of Non-Material Change in Status of Frontier Windpower II, LLC.

Filed Date: 4/2/21.

Accession Number: 20210402-5293.

Comments Due: 5 p.m. ET 4/23/21.

Docket Numbers: ER21-330-001.

Applicants: Specialty Products US, LLC.

Description: Tariff Amendment: Specialty Products US, LLC—Rate Schedule FERC No. 1 to be effective 1/4/2021.

Filed Date: 4/5/21.

Accession Number: 20210405-5733.

Comments Due: 5 p.m. ET 4/26/21.

Docket Numbers: ER21-331-001.

Applicants: DDP Specialty Electronic Materials US, Inc.

Description: Tariff Amendment: DDP App A FERC Rate Schedule No. 1 to be effective 1/4/2021.

Filed Date: 4/5/21.

Accession Number: 20210405-5748.

Comments Due: 5 p.m. ET 4/26/21.

Docket Numbers: ER21-817-001.

Applicants: Midcontinent Independent System Operator, Inc.

Description: Tariff Amendment: 2021-04-05_SA 3616/3617 Deficiency Response J1076 GIA & MPFCA J1076 J1142 J1158 to be effective 3/8/2021.

Filed Date: 4/5/21.

Accession Number: 20210405-5759.

Comments Due: 5 p.m. ET 4/26/21.

Docket Numbers: ER21-1622-000.

Applicants: Otter Tail Power Company.

Description: § 205(d) Rate Filing: Otter Tail Reactive Power Compensation Filing to be effective 6/1/2021.

Filed Date: 4/5/21.

Accession Number: 20210405-5704.

Comments Due: 5 p.m. ET 4/26/21.

Docket Numbers: ER21-1623-000.

Applicants: PJM Interconnection, L.L.C.

Description: § 205(d) Rate Filing: Original ISA, Service Agreement No. 6000; Queue No. AD2-116 to be effective 3/9/2021.

Filed Date: 4/6/21.

Accession Number: 20210406-5175.

Comments Due: 5 p.m. ET 4/27/21.

Docket Numbers: ER21-1624-000.

Applicants: Novera Energy, LLC.

Description: Petition for Limited Waiver of Mansfield-South Troy 34.5 kV and Roxbury 23 kV, subsidiaries of Novera Energy, LLC.

Filed Date: 4/5/21.

Accession Number: 20210405-5806.

Comments Due: 5 p.m. ET 4/15/21.

Docket Numbers: ER21-1625-000.

Applicants: Southwest Power Pool, Inc.

Description: § 205(d) Rate Filing: 3128 NorthWestern Energy NITSA NOA Cancellation to be effective 10/1/2020.

Filed Date: 4/6/21.

Accession Number: 20210406-5331.

Comments Due: 5 p.m. ET 4/27/21.

Docket Numbers: ER21-1626-000.

Applicants: Tri-State Generation and Transmission Association, Inc.

Description: § 205(d) Rate Filing: Service Agreement No. 891 between Tri-State and Lucky Corridor to be effective 4/1/2021.

Filed Date: 4/6/21.

Accession Number: 20210406-5371.

Comments Due: 5 p.m. ET 4/27/21.

Docket Numbers: ER21-1627-000.

Applicants: Tri-State Generation and Transmission Association, Inc.

Description: Tariff Cancellation: Notice of Cancellation of Rate Schedule FERC No. 108 to be effective 2/26/2020.

Filed Date: 4/6/21.

Accession Number: 20210406-5881.

Comments Due: 5 p.m. ET 4/27/21.

Docket Numbers: ER21-1628-000.

Applicants: Coso Geothermal Power Holdings, LLC.

Description: Initial rate filing: CoTenancy and Shared Facilities Agreement to be effective 5/21/2021.

Filed Date: 4/6/21.

Accession Number: 20210406-5906.

Comments Due: 5 p.m. ET 4/27/21.

Docket Numbers: ER21-1629-000.

Applicants: Southwest Power Pool, Inc.

Description: Notice of Cancellation of Network Integration Transmission Service Agreement and Network Operating Agreement of Southwest Power Pool, Inc.

Filed Date: 4/6/21.

Accession Number: 20210406-5960.

Comments Due: 5 p.m. ET 4/27/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 6, 2021.
Nathaniel J. Davis, Sr.,
Deputy Secretary.

[FR Doc. 2021-07438 Filed 4-9-21; 8:45 am]

BILLING CODE 6717-01-P